DEPARTMENT OF HOUSING AND URBAN DEVELOPMENT

[Docket No. FR-5997-N-39]

60-Day Notice of Proposed Information Collection: Implementation of the Violence Against Women Reauthorization Act of 2013

AGENCY: Offices of Housing, Public and Indian Housing, and Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 2, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; email Colette.Pollard@hud.gov or telephone 202-402-3400 (this is not a toll-free number). Persons with hearing or speech impairments may access this number through TTY by calling the toll-free Federal Relay Service at (800) 877-8339. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

SUPPLEMENTARY INFORMATION: This notice informs the public that HUD is seeking approval from OMB for the information collection described in Section A.

A. Overview of Information Collection

Title of Information Collection: Implementation of the Violence Against Women Reauthorization Act of 2013 OMB Approval Number: 2577-0286.

Type of Request (i.e., new, revision or extension of currently approved collection): Revision of currently approved collection.

Form Number: Forms HUD-5380, HUD-5381, HUD-5382, and HUD-5383.

Other: Emergency transfer reporting, lease addenda, and lease bifurcation.

Description of the need for the information and proposed use: The Violence Against Women Reauthorization Act of 2013 (VAWA 2013), Public Law 113-4, 127 Stat. 54, reauthorized and amended the Violence Against Women Act of 1994, as previously amended (title IV, sec. 40001-40703 of Public Law 103-322, 42 U.S.C. 13925 et seq.). In doing so, VAWA 2013 expanded VAWA protections from HUD's Section 8 and Public Housing programs only to many of HUD's housing programs. The programs now covered under the final VAWA Rule include:

• Section 202 Supportive Housing for the Elderly (12 U.S.C. 1701q);

• Section 811 Supportive Housing for Persons with Disabilities (42 U.S.C. 8013);

• Housing Opportunities for Persons with AIDS (HOPWA) program (42 U.S.C. 12901 et seq.);

• HOME Investment Partnerships (HOME) program (42 U.S.C. 12741 et seq.);

• Homeless programs under title IV of the McKinney-Vento Homeless Assistance Act (42 U.S.C. 11360 et seq.), including the Emergency Solutions Grants (ESG) program, the Continuum of Care (CoC) program, and the Rural Housing Stability (RHS) Assistance program;

• Multifamily rental housing under section 221(d)(3) of the National Housing Act (12 U.S.C. 17151(d)) with a below-market interest rate (BMIR) pursuant to section 221(d)(5);

• Multifamily rental housing under section 236 of the National Housing Act (12 U.S.C. 1715z-1);

• HUD programs assisted under the United States Housing Act of 1937 (42 U.S.C. 1437 et seq.); specifically, public housing under section 6 of the 1937 Act (42 U.S.C. 1437d), tenant-based and project-based rental assistance under section 8 of the 1937 Act (42 U.S.C. 1437f), and the Section 8 Moderate Rehabilitation Single Room Occupancy; and

• The Housing Trust Fund (12 U.S.C. 4568).

The provisions of VAWA 2013 that afford protections to victims of domestic violence, dating violence, sexual assault, or stalking are statutory and statutorily directed to be implemented. Accordingly, on November 16, 2016, HUD published a final rule at 81 FR 80724 (VAWA Rule), implementing VAWA 2013's provisions in its housing programs.

To fully implement these provisions under VAWA 2013 and the VAWA Rule, the Department must provide to all PHAs, owners and managers, and grant recipients (collectively “Covered Housing Providers” or “CHPs”) the three following model documents:

• Form HUD-5380: Notice of Occupancy Rights Under the Violence Against Women Act. HUD must provide this notice to CHPs, which must in turn distribute it to tenants and to applicants denied assistance to ensure they are aware of their rights under VAWA and its implementing regulations.

• Form HUD-5381: Model Emergency Transfer Plan for Victims of Domestic Violence, Dating Violence, Sexual Assault, or Stalking. HUD must provide this model document to CHPs, which may, at their discretion, use it to develop their own emergency transfer plans, as required under VAWA 2013.

• Form HUD-5382: Certification of Domestic Violence, Dating Violence, Sexual Assault, or Stalking, and Alternate Documentation. HUD must provide this certification form to CHPs, which must in turn distribute it to tenants and applicants. An individual may then optionally submit the form, certifying that he or she is a victim of domestic violence, dating violence, sexual assault, or stalking and that the incident in question is bona fide. The certification form serves as one tool for documenting the incident or incidents of domestic violence, dating violence, sexual assault, or stalking. (Note: This is a revision of and supersedes forms HUD-50066 and HUD-91066. VAWA 2013 required that the form be updated and made applicable to all covered programs.)

Tenants may provide third-party documentation along with or in lieu of form HUD-5382. The VAWA regulation stipulates that one such document—

A. Be signed by an employee, agent, or volunteer of a victim service provider, an attorney, or medical professional, or a mental health professional (collectively, “professional”) from whom the victim has sought assistance relating to domestic violence, dating violence, sexual assault, or stalking, or the effects of abuse;

B. Be signed by the applicant or tenant; and

C. Specifies, under penalty of perjury, that the professional believes in the occurrence of the incident of domestic violence, dating violence, sexual assault, or stalking and that the incident meets the applicable definition of domestic violence, dating violence, sexual assault, or stalking.

If an applicant or tenant submits such a statement, the corresponding professional may have to create or research documentation to accurately complete and maintain a record of the form.

HUD provides form HUD-5383: Emergency Transfer Request for Certain Victims of Domestic Violence, Dating Violence, Sexual Assault, or Stalking to CHPs, which may, at their discretion, distribute it to tenants and applicants. This form serves as a model for use by a CHP to accept requests for emergency transfers under its required VAWA 2013 Emergency Transfer Plan. This form allows an individual to submit and certify that they are a victim of domestic violence, dating violence, sexual assault, or stalking and that the incident in question is bona fide for purposes of being eligible for an emergency transfer. Thus, it serves as another tool for documenting the incident or incidents of domestic violence, dating violence, sexual assault, and stalking.

VAWA 2013 and/or the VAWA rule require or permit that CHPs also undertake certain activities as follows:

• Emergency Transfer Reporting: CHPs must keep a record of all emergency transfers requested under its emergency transfer plan, and the outcomes of such requests, and retain these records for a period of three years, or for a period of time as specified in program regulations. Requests and outcomes of such requests must also be reported to HUD annually.

• The VAWA regulation includes certain requirements that must be incorporated into the tenant's lease.

• Lease Bifurcation Option: VAWA 2013 provides CHPs the option to bifurcate a lease in order to evict, remove, terminate occupancy rights, or terminate assistance to any individual who is a tenant or lawful occupant of the housing and who engages in criminal activity directly relating to domestic violence, dating violence, sexual assault, or stalking. This option is designed to minimize the loss of housing to individual(s) covered under VAWA.

Respondents (i.e., affected public): Public housing agencies, private multifamily housing owners and management agents, state and local agencies, and grant recipients.

Estimated Number of Respondents: 30,087.

Estimated Number of Responses: 7,941,827.

Frequency of Response: Varies.

Average Hours per Response: 1.4.

Total Estimated Hour Burden: 3,269,550.

B. Proposed Changes to the Forms

The OMB approved forms HUD-5380, HUD-5381, HUD-5382, and HUD-5383 are being revised to more closely align with the VAWA regulation and to clarify language. In addition to minor changes, HUD proposes to make the following specific changes:

Form 5380: Clarify the “Tenant Protections” and “Removing the Abuser or Perpetrator from the Household” sections to align with the regulations and provide more information about bifurcation. Rename “Moving to Another Unit” to “Emergency Transfer” and include more emergency transfer language. Add language in the “Documenting That You Are or Have Been a Victim” section about reasonable accommodations and update the language for consistency with the regulation. Lastly, update the “Confidentiality” section to more closely follow the regulation and put individuals on notice of confidentiality protections.

Form 5381: Add a note to covered housing providers that the use of the model form without adding program specific and housing provider specific policies will not be sufficient to meet the emergency transfer plan requirements. Add a definition section with definitions taken from the regulation. Rename the section titled “Emergency Transfer Timing and Availability” to “Emergency Transfer Procedures” and add two new sections, “Emergency Transfer Policies” section, which clarifies that the provider must specify their individual policies for different categories of transfers (i.e. internal or external transfers) where applicable, and a “Priority for Transfers” section, which requires providers to provide any type of priority being provided to a victim consistent with 24 CFR 5.2005(e)(3) and (e)(6). Update the “Confidentiality” section to more closely follow the regulation and put individuals on notice of confidentiality protections. Lastly, add a “Making Plan Available” section to describe how the plan will be made publicly available, where possible.

Form 5382: Update the “Submission of Documentation” section to include information about reasonable accommodations. In addition, add a warning for making false submissions to ensure users of the form are aware of the legal nature of submitting false information to an entity when seeking access to Federal funds.

Form 5383: Update the “Confidentiality” section to more closely follow the regulation and put individuals on notice of confidentiality protections. Reframe question number 11 as a “Yes” or “No” question. Lastly, add a warning for making false submissions to ensure users of the form are aware of the legal nature of submitting false information to an entity when seeking access to Federal funds.

Drafts of the revised forms are being published along with this notice for the public to see the proposed changes.

C. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 26, 2017.
Colette Pollard,
Department Reports Management Officer, Office of the Chief Information Officer.

BILLING CODE 4210-67-P

[FR Doc. 2017-16110 Filed 7-31-17; 8:45 am]

BILLING CODE 4210-67-C